DEPARTMENT OF DEFENSE

Department of the Army; Corps of Engineers

Revised Notice of Intent To Prepare a Draft Environmental Impact Statement for the Brunswick County Beaches, NC, Coastal Storm Damage Reduction Project

AGENCY: Department of the Army, U.S. Army Corps of Engineers, DoD.

ACTION: Notice of Intent.

SUMMARY: The U.S. Army Corps of Engineers (USACE), Wilmington District (Corps) is currently conducting a General Reevaluation Report (GRR) for the Brunswick County Beaches, NC, Coastal Storm Damage Reduction (CSDR) Project. The Corps intends to prepare a Draft Environmental Impact Statement (DEIS) to evaluate the impacts of the proposed CSDR alternatives to reduce coastal storm damages from beach erosion in the towns of Holden Beach, Oak Island, and Caswell Beach, North Carolina. An array of structural, non-structural, and no action alternatives are being evaluated. Current analyses suggest that the dune and berm beach fill alternative maximizes net CSDR benefits for the project area beaches and provides additional environmental and recreation benefits. An offshore borrow area has been identified within the Southwestern portion of Frying Pan Shoals (FPS) (located off the coast of Cape Fear, North Carolina) to provide beach compatible sediment for the 50-year life of the project.

The DEIS is being prepared in accordance with the requirements of the National Environmental Policy Act (NEPA) of 1969, as amended, and will address the relationship of the proposed action to all other applicable Federal and State Laws and Executive Orders.

DATES: The earliest the DEIS will be available for public review would be August 2013.

FOR FURTHER INFORMATION CONTACT: Questions about the proposed action and DEIS can be answered by Mr. Doug Piatkowski, Environmental Resources Section; U.S. Army Engineer District, Wilmington; 69 Darlington Avenue, Wilmington, North Carolina 28403; telephone: (910) 251-4908; email: douglas.piatkowski@usace.army.mil.

SUPPLEMENTARY INFORMATION:

1. Previous Notice of Intent (NOI) publication. This notice is a revision of an August 26, 2003, NOI (68 FR 51257) to prepare a DEIS and is prepared in response to changes in the proposed action, availability of new information relative to the proposal and associated impacts, and the significant amount of time which has passed since the last NOI.

2. Authority. Federal improvements for CSDR along a segment of the ocean shoreline in Brunswick County, North Carolina, were authorized by the Flood Control Act of 1966 (Pub. L. 89-789). The most applicable text is copied below.

The project for hurricane-flood control protection from Cape Fear to the North Carolina—South Carolina State line, North Carolina, is hereby authorized substantially in accordance with the recommendations of the Chief of Engineers in House Document Numbered 511, Eighty-ninth Congress.

3. Project Purpose. The project purpose is reduction of damages from beach erosion for the towns of Caswell Beach, Oak Island (the former towns of Long Beach and Yaupon Beach have been incorporated as the Town of Oak Island), and Holden Beach, North Carolina. If implemented, the project would also enhance the beach area available for recreation use and provide habitat for a variety of plants and animals.

Significant environmental resources to be addressed in the DEIS include, but are not limited to: (1) Endangered and threatened species; (2) Marine and estuarine resources; (3) Upland beach and dune resources; (4) Fish and wildlife and their habitats; (5) Essential Fish Habitat (EFH) and Cape Fear Sandy Shoals; (6) Water and air quality; (7) Socioeconomic resources; (8) Cultural resources; and (9) Hazardous Toxic Radioactive Waste.

4. Alternatives. Project alternatives being evaluated consist of an array of structural and non-structural alternatives and no action. Structural alternatives include “soft” structures such as beach fill (i.e., beach nourishment) and “hard” structures such as breakwaters, seawalls, and groins. An array of “soft” structure beach fill alternatives are being evaluated, including berm only and multiple dune elevation and berm width combinations. The use of “hard” structures will be addressed within the updated planning paradigm in the state of North Carolina and relative to compliance with the Federal Coastal Zone Management Act. Non-structural alternatives considered include relocation of structures and acquisition and demolition of structures. Based upon analyses completed to date, the proposed action consists of a dune and berm beach fill alternative. The currently proposed beach fill alternative for Oak Island and Caswell Beach is a 14-foot-dune and 75-foot-berm extending along approximately 4.5 miles of total shoreline. The proposed beach fill alternative for Holden Beach is a 14-foot-dune and 50-foot-berm extending along approximately 4.2 miles of shoreline. The estimated total volume of beach compatible sediment needed for the 50-year project life, including initial construction and nourishment intervals, is approximately 42 million cubic yards.

Several inshore, offshore, and upland borrow sites were initially investigated for quantity and quality of beach compatible sediment to support the project. The currently proposed borrow site for initial construction and nourishment intervals is located along the southwestern portion of FPS, the cape associated shoals located southeast of Bald Head Island, North Carolina. The limits of the borrow area extend between 1-5 miles offshore and at depth contours between −10 and −30 feet.

5. Scoping. On January 24, 2000, in accordance with 40 CFR 1501.7, a scoping letter was sent to agencies, interest groups, and the public requesting identification of significant resources and issues of concern with respect to the proposed project. Considering the duration of time that had past and the decision to prepare an EIS based on comments received during the initial scoping effort, a second scoping letter was sent on 6 December 2004. All scoping comments received to date have been documented in the report and have been considered in the formulation of project alternatives. Additional scoping meetings have not been requested and are not anticipated at this time.

All affected federal, state, and local agencies, affected Indian tribes, and other interested private organizations and parties having an interest in the study are, hereby, notified of this revised NOI to prepare a DEIS.

6. Cooperating Agencies. The Corps is the lead agency for this project. Cooperating agency status has been initiated with the Bureau of Ocean Energy Management since the offshore limits of the proposed borrow area at FPS extend into the Outer Continental Shelf.

Steven A. Baker,
Colonel, U.S. Army, District Commander.

[FR Doc. 2012-4307 Filed 2-23-12; 8:45 am]

BILLING CODE 3720-58-P